DEPARTMENT OF HOMELAND SECURITY

U.S. Customs and Border Protection

[OMB Control Number 1651-0123]

Agency Information Collection Activities; Revision; Regulations Relating to Copyrights and Trademarks

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than May 30, 2024) to be assured of consideration.

ADDRESSES: Written comments and/or suggestions regarding the item(s) contained in this notice should be sent within 30 days of publication of this notice to www.reginfo.gov/public/do/PRAMain. Please submit written comments and/or suggestions in English. Find this particular information collection by selecting “Currently under Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (89 FR 14672) on February 28, 2024, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Regulations Relating to Copyrights and Trademarks.

OMB Number: 1651-0123.

Form Number: N/A.

Current Actions: Revision.

Type of Review: Revision.

Affected Public: Businesses.

Abstract: Title 19 of the United States Code section 1526(e) prohibits the importation of articles that bear a mark that is a counterfeit of a trademark that has been registered with the United States Patent and Trademark Office (USPTO) and subsequently recorded with U.S. Customs and Border Protection (CBP) through the e-Recordation Program. https://iprr.cbp.gov/s/. Pursuant to 15 U.S.C. 1124, the importation of articles that bear a mark that infringes a trademark or trade name that has been recorded with CBP is restricted pursuant to 19 U.S.C. 1595a(c)(2)(C). Likewise, under 17 U.S.C. 602 and 17 U.S.C. 603, the importation of articles that constitute a piratical copy of a registered copyrighted work that has subsequently been recorded with CBP is also prohibited. Both 15 U.S.C. 1124 and 17 U.S.C. 602 authorize the Secretary of the Treasury to prescribe by regulation the recordation of trademarks, trade names and copyrights with CBP. Additional rulemaking authority in this regard is conferred by CBP's general rulemaking authority as found in 19 U.S.C. 1624.

CBP officers enforce recorded trademarks, trade names and copyrights at all U.S. Ports of Entry. The information that respondents must submit in order to seek the assistance of CBP to protect against infringing imports is specified for trademarks under 19 CFR 133.2 and 133.3, and the information to be submitted for copyrights is specified under 19 CFR 133.32 and 133.33. Trademark, trade name, and copyright owners seeking border enforcement of their intellectual property rights provide information to CBP beyond that which they submitted to either the U.S. Patent and Trademark Office or the U.S. Copyright Office to obtain their registration. This revision adds the new e-Recordation online application, located at https://iprr.cbp.gov/.

E-Recordation applicants may provide as much additional information as they would like that would aid CBP in authenticating their genuine merchandise and distinguishing it from non-genuine merchandise, such as a Product Identification or Authentication Guides, lists of licensees and authorized manufacturers, and Applicants can supplement their application with additional information at any time by emailing the e-Recordation team at IPRRQuestions@cbp.dhs.gov. All information provided to CBP is housed in a secure database that can be viewed by CBP and Homeland Security Investigations personnel with a need to know. Limited information regarding the recorded trademark, trade name or copyright is published online to inform the public of which registrations are receiving border enforcement. https://iprs.cbp.gov/s/.

On December 15, 2017, CBP published a final rule in the Federal Register (82 FR 59511) regarding Donations of Technology and Related Support Services to Enforce Intellectual Property Rights. The final rule added 19 CFR 133.61 in a Subpart H to the CBP regulations which authorizes CBP to accept donations of hardware, software, equipment, and similar technologies, as well as related support services and training, from private sector entities, for the purpose of assisting CBP in enforcing intellectual property rights (IPR). A donation offer must be submitted to CBP either via email, to dap@cbp.dhs.gov, or mailed to the attention of the Executive Assistant Commissioner, Office of Field Operations, or his/her designee.

The donation offer must describe the proposed donation in sufficient detail to enable CBP to determine its compatibility with existing CBP technologies, networks, and facilities (e.g. operating system or similar requirements, power supply requirements, item size and weight, etc.). The donation offer must also include information pertaining to the donation's scope, purpose, expected benefits, intended use, costs, and attached conditions, as applicable, that is sufficient to enable CBP to evaluate the donation and make a determination as to whether to accept it. CBP will notify the donor, in writing, if additional information is requested or if CBP has determined that it will not accept the donation. If CBP accepts a donation, CBP will enter into a signed, written agreement with an authorized representative of the donor. The agreement must contain all applicable terms and conditions of the donation.

The respondents to this information collection are members of the trade community who are familiar with CBP regulations.

Type of Information Collection: IPR Recordation Application.

Estimated Number of Respondents: 2,000.

Estimated Number of Annual Responses per Respondent: 1.

Estimated Number of Total Annual Responses: 2,000.

Estimated Time per Response: 1 hours.

Estimated Total Annual Burden Hours: 2,000.

Type of Information Collection: IPR Donations of Authentication Technology.

Estimated Number of Respondents: 10.

Estimated Number of Annual Responses per Respondent: 1.

Estimated Number of Total Annual Responses: 10.

Estimated Time per Response: 20 hours.

Estimated Total Annual Burden Hours: 200.

Type of Information Collection: Training Requests.

Estimated Number of Respondents: 20.

Estimated Number of Annual Responses per Respondent: 1.

Estimated Number of Total Annual Responses: 20.

Estimated Time per Response: 2 hours.

Estimated Total Annual Burden Hours: 40.

Type of Information Collection:

Estimated Number of Respondents:

Estimated Number of Annual Responses per Respondent:

Estimated Number of Total Annual Responses:

Estimated Time per Response:

Estimated Total Annual Burden Hours:

Dated: April 25, 2024.
Seth D. Renkema,
Branch Chief, Economic Impact Analysis Branch, U.S. Customs and Border Protection.

[FR Doc. 2024-09263 Filed 4-29-24; 8:45 am]

BILLING CODE 9111-14-P